DEPARTMENT OF LABOR

Employment and Training Administration

[TA-W-54 569]

Honeywell Aerospace, Inconel Team, a Division of the Engine Systems and Accessories Division, a Division of Honeywell, Tempe, AZ; Notice of Termination of Investigation

Pursuant to section 221 of the Trade Act of 1974, as amended, an investigation was initiated on March 23, 2004, in response to a worker petition filed a state agency representative on behalf of workers at Honeywell Aerospace, Inconel Team, a division of the Engine Systems and Accessories Division, a division of Honeywell, Tempe, Arizona.

All workers were separated from the subject firm more than one year before the date of the petition. Section 223(b) of the Act specifies that no certification may apply to any worker whose last separation occurred more than one year before the date of the petition. Consequently, further investigation in this case would serve no purpose, and the investigation has been terminated.

Signed at Washington, DC, this 29th day of April, 2004.
Richard Church,
Certifying Officer, Division of Trade Adjustment Assistance.

[FR Doc. 04-11629 Filed 5-21-04; 8:45 am]

BILLING CODE 4510-30-P